DEPARTMENT OF ENERGY

Federal Energy Regulatory Commission

[Docket No. ER01-930-001]

Union Power Partners, L.P.; Notice of Filing

February 15, 2001.

Take notice that on February 7, 2001, Union Power Partners, L.P. (UPP) tendered for filing pursuant to Rule 205, 18 CFR 385.205, an amendment to its Application for Blanket Authorizations, Certain Waivers and Order Approving Rate Schedule originally filed on January 11, 2001 (Application).

The amendment to the Application identified the following changes: (i) The redesignation of the FERC Electric Rate Schedule No. 1 (Rate Schedule) for market-based rates as “Original Sheet No. 1” of the “FERC Electric Tariff Original Volume No. 1” and the Code of Conduct as “Original Sheet No. 2”; (ii) the addition of a new Paragraph 5 entitled “Prohibited Transactions” to the Rate Schedule which precludes sales to electric utility affiliates under the Rate Schedule and former paragraphs 5, 6 and 7 of the Rate Schedule are now renumbered as paragraphs 6, 7 and 8, respectively; (iii) the amendment of the effective date for the Rate Schedule to April 1, 2001; and (iv) that the initial construction date of UPP's 2214 MW natural gas-fired generating facility is April, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 26, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-4350 Filed 2-21-01; 8:45 am]

BILLING CODE 6717-01-M